DEPARTMENT OF EDUCATION

[Docket No. ED-2021-SCC-0052]

CRRSAA Supplemental Aid to Institutions of Higher Education Application; Correction

AGENCY: Office of Postsecondary Education (OPE), Department of Education (ED).

ACTION: Correction notice.

SUMMARY: On April 1, 2021, the U.S. Department of Education published a 60-day comment period notice in the Federal Register with FR DOC# 2021-06691 (Page 17145, Column 1, Column 2, Column 3) seeking public comment for an information collection entitled, “CRRSAA Supplemental Aid to Institutions of Higher Education Application”. The comment closing date of June 1, 2021 is wrong, and the correct closing date is May 3, 2021.

The PRA Coordinator, Strategic Collections and Clearance, Office of the Chief Data Officer, Office of Planning, Evaluation and Policy Development, hereby issues a correction notice as required by the Paperwork Reduction Act of 1995.

Dated: April 1, 2021.
Kate Mullan,
PRA Coordinator, Strategic Collections and Clearance, Office of the Chief Data Officer, Office of Planning, Evaluation and Policy Development.

[FR Doc. 2021-07113 Filed 4-6-21; 8:45 am]

BILLING CODE 4000-01-P